DEPARTMENT OF DEFENSE

Defense Logistics Agency

Privacy Act of 1974; Systems of Records

AGENCY: Defense Logistics Agency, DoD.

ACTION: Notice to add a system of records; S600.50 DLA Workplace Lactation Program Records.

SUMMARY: The Defense Logistics Agency proposes to add a system of records notice to its inventory of record systems subject to the Privacy Act of 1974 (5 U.S.C. 552a), as amended.

DATES: This action will be effective without further notice on August 5, 2005 unless comments are received that would result in a contrary determination.

ADDRESSES: Send comments to the Privacy Act Officer, Headquarters, Defense Logistics Agency, ATTN: DP, 8725 John J. Kingman Road, Stop 2533, Fort Belvoir, VA 22060-6221.

FOR FURTHER INFORMATION CONTACT: Ms. Susan Salus at (703) 767-6183.

SUPPLEMENTARY INFORMATION: The Defense Logistics Agency notices for systems of records subject to the Privacy Act of 1974 (5 U.S.C. 552a), as amended, have been published in the Federal Register and are available from the address above.

The proposed system report, as required by 5 U.S.C. 552a(r) of the Privacy Act of 1974, as amended, was submitted on June 27, 2005 to the House Committee on Government Reform, the Senate Committee on Homeland Security and Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: June 29, 2005.
Jeannette Owings-Ballard,
OSD Federal Register Liaison Officer, Department of Defense.

S600.50

System name:

DLA Workplace Lactation Program Records.

System location:

Staff Director, Environment, Safety and Occupational Health, Headquarters Defense Logistics Agency, ATTN: DES-E, 8725 John J. Kingman Road, Stop 6220, Fort Belvoir, VA 22060-6221, and the Defense Logistics Agency Field Activities. Official mailing addresses are published as an appendix to DLA's compilation of systems of records notices.

Categories of individuals covered by the system:

Civilian, military, and contractor personnel assigned to Defense Logistics Agency (DLA) facilities who have asked to participate in the DLA Workplace Lactation Program. The system may also cover individuals of other agencies who receive services from DLA under an administrative support agreement.

Categories of records in the system:

Participant's name, employing office and office symbol, work and home telephone numbers, signed agreement forms, dates and times of lactation room use, and physician's approval slips and forms (if applicable).

Authority for maintenance of the system:

5 U.S.C. 301, Departmental Regulations; 10 U.S.C. 136, Under Secretary of Defense for Personnel and Readiness; and Section 631 of Pub. L. 107-67, Treasury and General Government Appropriations Act, 2002.

Purpose(s):

The records are maintained and used by program coordinators to administer the DLA Workplace Lactation Program and to schedule and track room use. Records may also be used to ensure compliance with program rules and restrictions on room use. Statistical data with all personal identifiers removed may be used by management for program audit or effectiveness reviews, adequacy of facility size and amenities, or other administrative purposes.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD “Blanket Routine Uses” set forth at the beginning of DLA's compilation of systems of records notices apply to this system.

Policies and practices for storing, retrieving, accessing, retaining and disposing of records in the system:

Storage:

Records are stored in paper and electronic form.

Retrievability:

Records are retrieved by participant's name.

Safeguards:

Access is limited to those individual who require the records in the performance of their official duties. Access is further restricted by the use of passwords which are changed periodically. Physical entry is restricted by the use of locks, guards, and administrative procedures. Employees are periodically briefed on the consequences of improperly accessing restricted data.

Retention and disposal:

Disposition pending. Until the National Archives and Records Administration has approved the retention and disposal of these records, treat as permanent.

System manager and address:

Staff Director, Environment, Safety and Occupational Health, Headquarters Defense Logistics Agency, ATTN: DES-E, 8725 John J. Kingman Road, Stop 6220, Fort Belvoir, VA 22060-6221; and the Heads of the Environment, Safety, and Occupational Health offices of the Defense Logistics Agency Field Activities. Official mailing addresses are published as an appendix to DLA's compilation of systems of records notices.

Notification procedures:

Individuals seeking to determine whether information about themselves is contained in this system should address written inquiries to the Privacy Act Officer, Defense Logistics Agency, ATTN: DP, 8725 John J. Kingman Road, Stop 2533, Fort Belvoir, VA 22060-6221, or the Privacy Act Officer of the DLA Field Activity where employed or assigned. Official mailing addresses are published as an appendix to DLA's compilation of systems of records notices.

Record access procedures:

Individuals seeking access to information about themselves contained in this system should address written inquiries to the Privacy Act Officer, Defense Logistics Agency, ATTN: DP, 8725 John J. Kingman Road, Stop 2533, Fort Belvoir, VA 22060-6221, or the Privacy Act Officer of the DLA Field Activity where employed or assigned. Official mailing addresses are published as an appendix to DLA's compilation of systems of records notices.

Contesting record procedures:

The DLA rules for accessing records, for contesting contents, and appealing initial agency determinations are contained in 32 CFR part 323, or may be obtained from the Privacy Act Officer, Headquarters, Defense Logistics Agency, ATTN: DP, 8725 John J. Kingman Road, Stop 2533, Fort Belvoir, VA 22060-6221.

Record source categories:

Data is provided by the record subject, by the subject's personal physician, and by the lactation room coordinator.

Exemptions claimed for the system:

None.

[FR Doc. 05-13205 Filed 7-5-05; 8:45 am]

BILLING CODE 5001-06-P